DEPARTMENT OF THE INTERIOR

Bureau of Land Management

[CACA 04880, LLCAD06000, L51010000.FX0000, LVRWB09B2600]

Notice of Availability of the Draft Environmental Impact Statement/Staff Assessment for the Chevron Energy Solutions/Solar Millennium Palen Solar Power Plant (PSPP) and Possible California Desert Conservation Area Plan Amendment

AGENCY: Bureau of Land Management, Interior.

ACTION: Notice of availability.

SUMMARY: In accordance with the National Environmental Policy Act of 1969, as amended, and the Federal Land Policy and Management Act of 1976, as amended, the Bureau of Land Management (BLM) and the California Energy Commission (CEC) have prepared a Draft Environmental Impact Statement (EIS), Draft California Desert Conservation Area (CDCA) Plan Amendment, and Staff Assessment (SA) as a joint environmental analysis document for the Chevron Energy Solutions/Solar Millennium (CESSM) Palen Solar Power Plant (PSPP) Project, Riverside County, California, and by this notice are announcing the opening of the comment period.

DATES: To ensure that comments will be considered, the BLM must receive written comments on the Draft EIS/SA and Plan Amendment within 90 days following the date the Environmental Protection Agency publishes its Notice of Availability in the Federal Register. The BLM will announce future meetings or hearings and any other public involvement activities at least 15 days in advance through public notices, media releases, and/or mailings.

ADDRESSES: You may submit comments related to the PSPP Project by any of the following methods:

• E-mail: CAPSSolarPalen@blm.gov.

• Fax: (760) 833-7199.

• Mail or other delivery service: Allison Shaffer, Project Manager, Palm Springs South Coast Field Office, Bureau of Land Management, 1201 Bird Center Drive, Palm Springs, California 92262.

FOR FURTHER INFORMATION CONTACT: Allison Shaffer, BLM Project Manager at (760) 833-7100. See also ADDRESSES section.

SUPPLEMENTARY INFORMATION: CESSM has submitted a right-of-way (ROW) application to the BLM for development of the proposed PSPP Project, consisting of two parabolic-trough solar thermal power plants, each of which has a “solar field” comprised of rows of parabolic mirrors focusing solar energy on collector tubes. The tubes would carry heated oil to a boiler that sends live steam to a steam turbine. The project would be built in two phases which are designed to generate in total approximately 500 megawatts (MW) of electricity at full development. The proposed ROW would encompass approximately 5,200 acres; the disturbed area would encompass approximately 2,970 acres. The project site is in Riverside County, California, approximately 10 miles east of Desert Center along Interstate 10 approximately halfway between the cities of Indio and Blythe.

The major components and features of the proposed PSPP include the two power plants, an access road, operations facilities (office, warehouse, etc.), a switchyard, an electrical transmission line (which will connect to Southern California Edison's planned Red Bluff substation, approximately ten miles west of the Palen project site), and two water wells. This dry-cooled power plant would use approximately 300 acre-feet of water per year for feed water makeup, dust control, domestic uses, and mirror washing, obtained from on-site water wells.

The BLM's purpose and need for the PSPP project is to respond to CESSM's application under Title V of the Federal Land Policy and Management Act (FLPMA) (43 U.S.C. 1761) for a ROW grant to construct, operate, and decommission a solar thermal facility on public lands in compliance with FLPMA, the BLM ROW regulations, and other applicable Federal laws. The BLM will decide whether to grant, grant with modification, or deny a ROW to CESSM for the proposed PSPP project. The BLM is proposing to amend the CDCA Plan by designating the project area as either available or unavailable for solar energy projects. The CDCA Plan (1980, as amended), while recognizing the potential compatibility of solar generation facilities with other uses on public lands, requires that all sites proposed for power generation or transmission not already identified in the plan be considered through the plan amendment process. If the BLM decides to grant a ROW for this project, the CDCA Plan would be amended as required. In response to the application received from CESSM, the BLM's proposed action is to authorize the CESSM PSPP project, amend the CDCA Plan to designate the project area as available for solar energy projects, and amend the Plan to approve this project.

In addition to the proposed action, the BLM is analyzing the following action alternatives: A reconfigured, 500-MW alternative and a smaller 425-MW alternative, both of which would amend the CDCA Plan to designate the area as available for solar energy projects and approve this project. As required under the National Environmental Policy Act (NEPA), the Draft EIS analyzes a no action alternative that would not require a CDCA Plan amendment. The Draft EIS also analyzes two no project alternatives that reject the project, but amend the CDCA Plan to: (1) Designate the project area as available to future solar energy power generation projects; or (2) designate the project area as unavailable to future solar energy power generation projects. The BLM will take into consideration the provisions of the Energy Policy Act of 2005 and Secretarial Orders 3283 Enhancing Renewable Energy Development on the Public Lands and 3285 Renewable Energy Development by the Department of the Interior in responding to the PSPP application.

The BLM has entered into a Memorandum of Understanding with the CEC to conduct a joint environmental review of solar thermal projects that are proposed on Federal land managed by the BLM, with the CEC as the lead agency preparing the environmental documents. The BLM and CEC have agreed to conduct joint environmental review of the project in a single combined NEPA/California Environmental Quality Act process and document. The Draft EIS/SA analyzes site-specific impacts of the proposed project on air quality; biological, cultural, water, soil, visual, paleontological, and geological resources; recreation; land use; noise; public health; socioeconomics; and traffic and transportation. The Draft EIS/SA also addresses hazardous materials handling, waste management worker safety, fire protection, facility design engineering, efficiency, reliability, transmission system engineering, transmission line safety, and nuisance. A Notice of Intent to Prepare an EIS/SA and Proposed Land Use Plan Amendment for the Proposed CESSM PSPP in Riverside County, California was published November 23, 2008 (73 FR 61902). The BLM held one public scoping meeting in Palm Desert, California, on December 11, 2008. The formal scoping period ended December 23, 2009. The CEC held an Informational Hearing, Environmental Scoping Meeting, and Public Site Visit in cooperation with the BLM on January 25, 2010.

Please note that public comments and information submitted including names, street addresses, and e-mail addresses of persons who submit comments will be available for public review and disclosure at the above address during regular business hours (8 a.m. to 4 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so.

Authority: 40 CFR 1506.6 and 1506.10 and 43 CFR 1610.2

Thomas Pogacnik,
Deputy State Director.

[FR Doc. 2010-7833 Filed 4-6-10; 8:45 am]

BILLING CODE 4310-40-P